DEPARTMENT OF THE INTERIOR

Bureau of Land Management

[AK-962-1410-HY-P; F-14940-A]

Alaska Native Claims Selection

AGENCY: Bureau of Land Management, Interior.

ACTION: Notice of modified decision.

SUMMARY: As required by 43 CFR 2650.7(d), notice is hereby given that the decision approving lands for conveyance to Dinyea Corporation, notice of which was published in the Federal Register on December 23, 1996, 61 FR 67573, is modified by changing the uses allowed on site easement EIN 1 D3. Notice of the modified decision will also be published four (4) times in the Fairbanks Daily News-Miner.

DATES: The time limits for filing an appeal are:

1. Any party claiming a property interest which is adversely affected by the decision shall have until January 28, 2002 to file an appeal.

2. Parties receiving service of the decision by certified mail shall have 30 days from the date of receipt to file an appeal.

Parties who do not file an appeal in accordance with the requirements of 43 CFR part 4, subpart E, shall be deemed to have waived their rights. Except as modified, the decision, notice of which was given December 23, 1996, is final.

ADDRESSES: A copy of the decision may be obtained from: Bureau of Land Management, Alaska State Office, 222 West Seventh Avenue, #13, Anchorage, Alaska 99513-7599.

FOR FURTHER INFORMATION CONTACT: Christy Favorite, 907-271-5656, or by e-mail at Christy_Favorite@ak.blm.gov.

Christy Favorite,
Land Law Examiner, Branch of ANCSA Adjudication.

[FR Doc. 01-31757 Filed 12-26-01; 8:45 am]

BILLING CODE 4310-$$-P